DEPARTMENT OF COMMERCE

National Oceanic and Atmospheric Administration

[I.D. 070301C]

Proposed Information Collection; Comment Request; Alaska Marine Sport Fishing Economic Survey

AGENCY: National Oceanic and Atmospheric Administration (NOAA).

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506 (c)(2)(A)).

DATES: Written comments must be submitted on or before September 7, 2001.

ADDRESSES: Direct all written comments to Madeleine Clayton, Departmental Paperwork Clearance Officer, Department of Commerce, Room 6086, 14th and Constitution Avenue NW, Washington DC 20230 (or via Internet at MClayton@doc.gov).

FOR FURTHER INFORMATION CONTACT: Requests for additional information or copies of the information collection instrument(s) and instructions should be directed to Tod Lee, Alaska Fisheries Science Center, F/AKC3, 7600 Sand Point Way, NE, Bldg. 4, Seattle, WA 98115 (phone 206-526-4252).

SUPPLEMENTARY INFORMATION:

I. Abstract

The purpose of the survey is to collect information that will be used to conduct economic analyses of marine sport fisheries off Alaska. The Federal Government is responsible for the management of the Pacific halibut fishery, while the State of Alaska manages the salmon fisheries. The scope of the project includes both the Pacific halibut and the primary salmon fisheries (Chinook, Coho and Sockeye). The survey data will be used to estimate the economic value of a fishing day to anglers, and how catch rates and fishery regulations affects that value. The survey data will also be used to estimate how catch rates and fishery regulation affect the participation decisions of anglers. This type of economic data is currently not available for many areas and fisheries in Alaska. The information derived from the survey will be of use to fishery managers in their effort to evaluate the economic status of the marine sport fisheries off Alaska and the consequences of proposed regulations.

II. Method of Collection

The data will be collected through a mail survey with a telephone contact of non-respondents. Each respondent will receive an initial questionnaire. A second questionnaire will be mailed to those who have not responded within 3 weeks. Those who do not respond to the second mailing will be contacted by telephone to ask them to complete the questionnaire and return it by mail. The survey instrument will be developed using focus groups to test questions and survey format.

III. Data

OMB Number: None.

Form Number: None.

Type of Review: Regular submission.

Affected Public: Individuals or households.

Estimated Number of Respondents: 3,800.

Estimated Time Per Response: 20 minutes.

Estimated Total Annual Burden Hours: 1,267 hours.

Estimated Total Annual Cost to Public: $0.

IV. Request for Comments

Comments are invited on: (a) whether the proposed collection of information is necessary for the proper performance of the functions of the agency, including whether the information shall have practical utility; (b) the accuracy of the agency’s estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: July 2, 2001.
Madeleine Clayton,
Departmental Paperwork Clearance Officer, Office of the Chief Information Officer.

[FR Doc. 01-17093 Filed 7-6-01; 8:45 am]

BILLING CODE 3510-22-S